DEPARTMENT OF LABOR

Employment and Training Administration

Agency Information Collection Activities; Comment Request; State Apprenticeship Expansion (SAE) Grants Research Study

ACTION: Notice of information collection; request for comment.

SUMMARY: The Department of Labor (DOL), Employment and Training Administration (ETA) is soliciting comments concerning a new request for the authority to conduct the information collection request (ICR) titled, “State Apprenticeship Expansion (SAE) Grants Research Study.” This comment request is part of continuing Departmental efforts to reduce paperwork and respondent burden in accordance with the Paperwork Reduction Act of 1995 (PRA).

DATES: Consideration will be given to all written comments received by October 9, 2018.

ADDRESSES: A copy of this ICR with applicable supporting documentation; including a description of the likely respondents, proposed frequency of response, and estimated total burden may be obtained free by contacting Gloribel Nieves-Cartagena by telephone at (202) 693-2771, TTY 1-877-889-5627 (these are not toll free numbers), or by email at Nieves-Cartagena.Gloribel@dol.gov.

Submit written comments about, or requests for a copy of, this ICR by mail or courier to the U.S. Department of Labor, Employment and Training Administration, Office of Policy Development and Research, Room N-5641, 200 Constitution Avenue NW, Washington, DC 20210; by email: Nieves-Cartagena.Gloribel@dol.gov; or by Fax at (202) 693-2766.

FOR FURTHER INFORMATION CONTACT: Gloribel Nieves-Cartagena by telephone at (202) 693-2771, TYY 1-877-889-5627 (these are not toll-free numbers) or by email at Nieves-Cartagena.Gloribel@dol.gov.

Authority: 44 U.S.C. 3506(c)(2)(A).

SUPPLEMENTARY INFORMATION: The DOL, as part of its continuing effort to reduce paperwork and respondent burden, conducts a pre-clearance consultation program to provide the general public and Federal agencies with an opportunity to comment on proposed and/or continuing collections of information before submitting them to the OMB for final approval. This program helps to ensure that requested data can be provided in the desired format, reporting burden (time and financial resources) is minimized, collection instruments are clearly understood, and the impact of collection requirements on respondents is properly assessed.

The information collection activities described in this notice will provide data for a qualitative study of Apprenticeship SAE grants and related apprenticeship expansion activities.

Through grant and contract vehicles, DOL is seeking to expand opportunities related to Registered Apprenticeships, expand programs to new industries and occupations, increase the number of apprentices, and to promote the diversity and inclusion of apprentices.

First, in September 2016, DOL awarded $20.4 million through 10 National Industry Partner contracts and four National Equity Partner contracts to increase apprenticeships in particular industries and focus on diversity and inclusion in apprenticeships, respectively. In November 2016, DOL awarded a total of $50.5 million in grants to 36 states and one territory to expand apprenticeships throughout the country. In 2017, 10 contracts were renewed for a second contract year.

This information collection covers an evaluation study, which will address six key research questions related to the SAE grants and national industry and equity partner contracts: (1) How are grantees' and contractors' implementation activities progressing around efforts to drive apprenticeship expansion and diversity, (2) What partnerships have been developed as a result of these activities, (3) What factors have affected implementation, (4) How are funds being used, (5) What state policies exist or are in development to support expansion, and (6) What promising models or lessons have emerged? In addition, through a national survey of states and U.S. territories, the study will address the question: What is the current status of states' efforts to grow apprenticeship programs and opportunities?

The National Apprenticeship Act of 1937 (29 U.S.C. 50) authorizes this information collection.

This information collection is subject to the PRA. A Federal agency generally cannot conduct or sponsor a collection of information, and the public is generally not required to respond to an information collection, unless it is approved by the OMB under PRA and displays a currently valid OMB Control Number. In addition, notwithstanding any other provisions of law, no person shall generally be subject to penalty for failing to comply with a collection of information that does not display a valid Control Number. See CFR 1320.5(a) and 1320.6.

Interested parties are encouraged to provide comments to the contact shown in the ADDRESSES section. Comments must be written to receive consideration, and they will be summarized and included in the request for OMB approval of final ICR. In order to help ensure appropriate consideration, comments should mention control number 1205-XXXX.

Submitted comments will also be a matter of public record for this ICR and posted on the internet without redaction. The DOL encourages commenters not to include personally identifiable information, in any comments.

The DOL is particularly interested in comments that:

• Evaluate whether the proposed collection of information is necessary for the proper performance functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical or other technological collection techniques or other forms of information technology (e.g., permitting electronic submission of responses).

Agency: DOL-ETA.

Type of Review: NEW.

Title of Collection: State Apprenticeship Expansion (SAE) Grants Research Study.

Forms: 1. State Apprenticeship Expansion Grant administrator protocol; 2. National Industry Partner contractor protocol; 3. National Equity Partner contractor protocol; and 4. State Registered Apprenticeship administrator survey.

OMB Control Number: 1205-XXXX.

Affected Public: Staff of state government agencies, for-profit entities, and not-for-profit entities. “Respondent groups identified include (1) administrators of State apprenticeship expansion grants, (2) representatives for industry and equity partner contracts, and (3) State Registered Apprenticeship staff.

Estimated Number of Respondents: 95.

Frequency: Once.

Total Estimated Annual Responses: 48.

Estimated Average Time per Response: Varies.

Estimated Total Annual Burden Hours: 55.

Estimated Total Annual Other Cost Burden: $1,873.85.

Rosemary Lahasky,
Deputy Assistant Secretary for Employment and Training Administration.

[FR Doc. 2018-16930 Filed 8-7-18; 8:45 am]

BILLING CODE 4510-FT-P